POSTAL SERVICE

International Product Change—Inbound Express Mail International (EMS) From Foreign Posts

AGENCY: Postal Service.™

ACTION: Notice.

SUMMARY: Postal Service notice of filing a request with the Postal Regulatory Commission to add Inbound Express Mail International (EMS) from Foreign Postal Administrations to the Competitive Products List pursuant to 39 U.S.C. § 3642 and 39 CFR 3020.30.

DATES: December 19, 2008.

FOR FURTHER INFORMATION CONTACT: Margaret M. Falwell, 703-292-3576.

SUPPLEMENTARY INFORMATION: The United States Postal Service® hereby gives notice that it has filed with the Postal Regulatory Commission a Request of United States Postal Service Regarding Inbound Express Mail International (EMS) From Foreign Posts to add Inbound International Expedited Services 2 to the Competitive Product List, and Notice of Filing (Under Seal) the Enabling Governor's Decision and Establishment of Rates and Classifications Not of General Applicability. Documents are available at http://www.prc.gov, Docket Nos. MC2009-10 and CP2009-12.

Neva R. Watson,
Attorney, Legislative.

[FR Doc. E8-30153 Filed 12-18-08; 8:45 am]

BILLING CODE 7710-12-P